ENVIRONMENTAL PROTECTION AGENCY

40 CFR Part 52

[EPA-R08-OAR-2011-0588; FRL9450-5]

Approval, Disapproval and Promulgation of Air Quality Implementation Plans; Colorado; Smoke, Opacity and Sulfur Dioxide Rule Revisions; Regulation 1

AGENCY: Environmental Protection Agency (EPA).

ACTION: Proposed Rule.

SUMMARY: EPA is proposing to partially approve and partially disapprove revisions to Colorado's Regulation 1 adopted by the State of Colorado on July 21, 2005 and submitted to EPA on August 8, 2006. The revisions involve the use of obscurants during military exercises while maintaining air quality, averaged emission rate determination over time and recordkeeping requirements. Colorado's Regulation 1 governs opacity, particulate, sulfur dioxide (SO2), and carbon monoxide (CO) emissions from sources. EPA has determined that most of the revisions in Colorado's submittal are consistent with the Clean Air Act (CAA) and should be approved, but a revision to a provision governing fuel burning equipment is not and should be disapproved.

DATES: Comments must be received on or before September 9, 2011.

ADDRESSES: Submit your comments, identified by Docket ID No. EPA-R08-OAR-2011-0588 by one of the following methods:

• http://www.regulations.gov. Follow the on-line instructions for submitting comments.

• E-mail: komp.mark@epa.gov.

• Fax: (303) 312-6064 (please alert the individual listed in the FOR FURTHER INFORMATION CONTACT if you are faxing comments).

• Mail: Director, Air Program, Environmental Protection Agency (EPA), Region 8, Mailcode 8P-AR, 1595 Wynkoop Street, Denver, Colorado 80202-1129.

• Hand Delivery: Director, Air Program, Environmental Protection Agency (EPA), Region 8, Mailcode 8P-AR, 1595 Wynkoop Street, Denver, Colorado 80202-1129. Such deliveries are only accepted Monday through Friday, 8 a.m. to 4:30 p.m., excluding Federal holidays. Special arrangements should be made for deliveries of boxed information.

Instructions: Direct your comments to Docket ID No. EPA-R08-OAR-2011-0588. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA, without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional instructions on submitting comments, go to Section I. General Information of the SUPPLEMENTARY INFORMATION section of this document.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Air Program, Environmental Protection Agency (EPA), Region 8, 1595 Wynkoop Street, Denver, Colorado 80202-1129. EPA requests that if at all possible, you contact the individual listed in the FOR FURTHER INFORMATION CONTACT section to view the hard copy of the docket. You may view the hard copy of the docket Monday through Friday, 8 a.m. to 4 p.m., excluding Federal holidays.

FOR FURTHER INFORMATION CONTACT: Mark Komp, Air Program, 1595 Wynkoop Street, Mailcode: 8P-AR, Denver, Colorado 80202-1129, (303) 312-6022, komp.mark@epa.gov.

SUPPLEMENTARY INFORMATION:

Table of Contents

I. General Information

II. Purpose of This Action

III. Background of State's Submittals

IV. EPA Analysis of State's Submittals

V. Consideration of Section 110(l) of the CAA

VI. Proposed Action

VII. Statutory and Executive Order Reviews

Definitions

For the purpose of this document, we are giving meaning to certain words or initials as follows:

(i) The words or initials Act or CAA mean or refer to the Clean Air Act, unless the context indicates otherwise.

(ii) The words EPA, we, us or our mean or refer to the United States Environmental Protection Agency.

(iii) The initials SIP mean or refer to State Implementation Plan.

(iv) The words State or Colorado mean the State of Colorado, unless the context indicates otherwise.

(v) The initials NSR mean or refer to New Source Review, the initials PSD mean or refer to Prevention of Significant Deterioration and the initials NAAQS mean or refer to National Ambient Air Quality Standards.

(vi) The initials CO mean Carbon Monoxide, NO2 mean Nitrogen Dioxide and SO2 mean Sulfur Dioxide.

(vii) The initials BACT mean Best Available Control Technology.

(viii) The word Base means United States Army Fort Carson Military Base and the word PCMS means Pinon Canyon Maneuver Site.

I. General Information

A. What should I consider as I prepare my comments for EPA?

1. Submitting CBI. Do not submit this information to EPA through http://regulations.gov or e-mail. Clearly mark the part or all of the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for Preparing Your Comments. When submitting comments, remember to:

a. Identify the rulemaking by docket number and other identifying information (subject heading, Federal Register date and page number).

b. Follow directions—The agency may ask you to respond to specific questions or organize comments by referencing a Code of Federal Regulations (CFR) part or section number.

c. Explain why you agree or disagree; suggest alternatives and substitute language for your requested changes.

d. Describe any assumptions and provide any technical information and/or data that you used.

e. If you estimate potential costs or burdens, explain how you arrived at your estimate in sufficient detail to allow for it to be reproduced.

f. Provide specific examples to illustrate your concerns, and suggest alternatives.

g. Explain your views as clearly as possible, avoiding the use of profanity or personal threats.

h. Make sure to submit your comments by the comment period deadline identified.

II. Purpose of This Action

EPA is proposing to partially approve and partially disapprove revisions to Colorado's Regulation 1 adopted by the State of Colorado on July 21, 2005 and submitted to EPA on August 8, 2006. The revisions involve the deletion of obsolete, adoption of new, and clarification of ambiguous provisions. Colorado's Regulation 1 governs opacity, and particulate, SO2, and CO emissions from sources. EPA has determined that most of the revisions in Colorado's submittal are consistent with the CAA and should be approved, but a revision to a provision governing fuel burning equipment is not and should be disapproved.

EPA is soliciting public comments on the issues discussed in this document. These comments will be considered before taking final action. Interested parties may participate in the Federal rulemaking procedure by submitting written comments to the EPA Regional office listed in the ADDRESSES section of this document.

III. Background of State's Submittals

The State's August 8, 2006 submittal consisted of one revision to the State's Regulation 1. The revision was adopted by the State on July 21, 2005 and revises regulations regarding the use of smoke during military operations, equipment requirements and work practices (abatement and control measures intended to control the emissions of particulates), smokes and SO2 from new and existing stationary sources.

It also provides a new numbering scheme for each section of the regulation. The revisions to Regulation 1 are described for each section where a revision was made within Regulation 1.

Introduction

The State revised the numbering of Regulation 1. Previously, subsections were designated only by the letter or number (for example, A or 1) assigned to that subsection. In the revision, every subsection is designated by full reference to it (for example, III.A or III.A.1).

The State adopted EPA test method 9 (40 CFR Part 60, Appendix A-4) as it is applied to Standards of Performance for Steel Plants (40 CFR 60.275a).

Section I. Applicability of: Referenced Federal Regulations

Section I.A. provides that Regulation 1 provisions are applicable statewide. An exception is made if a provision within Regulation 1 is made specifically applicable to attainment, attainment/maintenance or nonattainment areas. Consistent with its use of the term elsewhere, the State added the attainment/maintenance nomenclature as a revision to Section I.A.

Section II. Smoke and Opacity

Section II.A.1 provides that no owner or operator of a source shall allow or cause emissions to be released into the atmosphere of any air pollutant in excess of 20 percent opacity. Sources are to use EPA Test Method 9 to determine opacity but the State added language to the section stating that the use of the test method shall not preclude the use of other credible evidence. Section II.A.3 was revised to clarify that the emission limit on pilot plants and experimental operations is taken over a sixty minute time period.

The submittal indicated that revisions were made to Section II.C. regarding the State's Open Burning regulation. However, upon review of the revisions the language appears to be unchanged from a previous revision the State had made to its Open Burning regulations under the Smoke and Opacity section of Regulation 1. EPA approved this revision in an earlier action (76 FR 4540, Jan. 26, 2011).

The State revised Regulation 1 to address the United States Army Fort Carson Military Base's (Base) need to use military smoke or obscurants (both which will be referred to as obscurants in this proposed action) during training.

As background information prior to the revision, Section II.A of Regulation 1 set general standards prohibiting emissions into the atmosphere of any air pollutant which is in excess of 20% opacity. In recognition that obscurant generation in training by the United States Army purposefully intends to be at or near 100 percent opacity, the State added provisions for obscurant generation in 1998. Section II.D set specific limitations for the use of obscurants at the Base and the Pinón Canyon Maneuver Site (PCMS) at 100 percent opacity subject to specified limitations and conditions.

The revisions to Section II.D in the August 8, 2006 submission include the replacement of the specific reference to fog oil with a general reference to obscurants allowing the Army the use of other materials to generate obscurants. The revision removed the daily limitation to the use of obscurants, and replaces a three-kilometer buffer zone where obscurants could not be generated with a prohibition on transport of visible emissions from obscurants outside the boundaries of the facilities.

Other revisions to Section II.D added the measures to protect air quality beyond the Base and PCMS' boundary that must be executed before and during obscurant training. These measures included analyzing meteorological conditions before training with obscurants begins to ensure that atmospheric conditions meet established criteria for the dispersion of the obscurants. The revisions specify precluding obscurant training if unsatisfactory atmospheric dispersion conditions exist and stopping such training if atmospheric dispersion conditions deteriorate. Base and PCMS personnel are to be posted as observers on the obscurant training and are trained to anticipate the probability of obscurants drifting across the Base and PCMS boundaries. These personnel will have the authority to cease operations. The Base and PCMS commanders shall be responsible for compliance with the stipulations of Section II.D.

Section III. Particulate Matter

Prior to its revision, Section III.A.1.d stated that if two or more fuel burning units connect to any opening, the maximum allowable emission rate shall be calculated on a pound per million heat input (BTU) basis. The State revised this so that the maximum allowable emission rate shall be calculated on a lb/hour basis. In our July 5, 2005 letter, we expressed that it was unclear why the regulation was changed. We suggested to the State that a testing protocol be developed to determine compliance with the revised emission rate.

A revision to Section III.B.2.a of Regulation 1 changed the areas where an incinerator emission standard applies. Previously, the emission rate limitation of 0.10 grain of particulate matter per standard cubic foot applied only to incinerators located in nonattainment areas. The revision, consistent with changes elsewhere, expanded the applicability to include incinerators located in attainment/maintenance areas as well.

Finally, the August 8, 2006 submittal changed Section III.C.1.a. regarding manufacturing processes emission rates, to clarify that the applicability of the section is to process equipment with a design rate of 30 tons per hour or less.

Section IV. Continuous Emission Monitoring Requirements for New and Existing Sources

Fluidized bed catalytic units at petroleum refineries located in nonattainment areas are required to install, calibrate, maintain and operate continuous emission monitoring systems for the measurement of CO. This requirement was expanded, consistent with changes elsewhere, to include the same types of units located in attainment/maintenance areas.

Section VI. Sulfur Dioxide Emission Regulations

Averaging times for existing sources of SO2 unless specified in other sections of Regulation 1 shall be a three hour rolling average (Section VI.A.1). Prior to the revision only sources utilizing a CEM were subject to the 3 hour rolling average. Requirements regarding frequency of fuel sampling were eliminated from this section. Recordkeeping and reporting requirements were modified in Section VI.A.5 to allow the State to require a longer period than the two years for keeping records on site. Previously, Section IV.H of Regulation 1 required only a two year limit to keeping records. The revision to Section VI.A.5 and Section VI.B.7 acknowledge that other applicable regulations could require longer periods for recordkeeping without conflicting with the two year recordkeeping period specified in Section IV.H.

In Section VI.A.3.f, the State eliminated a reference to new sources submitting an averaging plan, as the section refers only to existing sources.

Previously, the State had proposed an increase in the emission limit for petroleum refining and refineries processing 1,000 or more barrels per day of oil (Sections VI.B.4.e and VI.B.4.g.(ii)). The existing emission limit of 0.3 lbs per barrel of oil processed per day was revised to 0.7 lbs per barrel per day. EPA disapproved the relaxation of these limits in a previous action (76 FR 4540, Jan. 26, 2011). In the August 8, 2006 submittal, the State reinstated the language that existed in the SIP prior to the previous proposed revision.

The State added Section VI.B.4.i to Regulation 1 that addressed emission limitations for new cement manufacturing sources. The emission limitation reflects verbatim the emission limitations for existing cement manufacturing found within Section VI.A.3.f with the exception that new sources must submit an emission limit averaging plan with their construction permit application. Revisions to section VI.B.4.i regarding cement manufacturing incorporated the revised averaging times found in section VI.A.3.f and stated that records showing compliance with the emission standard specified in Section VI.A.3.f are to be maintained by the owner for a period of two or five years dependent upon the conditions stated in the source's operating permit.

The State reinstated Section VI.B.5, which specifies that new sources of SO2, not specifically regulated in other sections of Regulation 1 are limited in their emissions to no more than two tons per day of SO2 or must utilize Best Available Control Technology (BACT) as determined by the State. EPA previously disapproved the removal of Section VI.B.5 (76 FR 4540, Jan. 26, 2011).

Section VIII. Restrictions on Use of Oil as a Backup Fuel

In Section VIII.A., Applicability, the reference to the U.S. Department of Energy, Rocky Flats Environmental Technology Site and Gates Rubber Company as sources using oil as a backup fuel is deleted since the sources no longer operate in the Denver, Colorado metropolitan area.

Section IX. Emission Regulations Concerning Areas Which Are Nonattainment for Carbon Monoxide

The State added the attainment/maintenance nomenclature as a revision to Section IX. Prior to the revision, refinery fluidized bed catalytic cracking units emitting annually 1,000 or more tons of CO located in nonattainment areas were subject to an emission limitation of 500 parts per million by volume of CO averaged over a one hour period. The State revised this provision to include cracking units in attainment/maintenance units.

IV. EPA Analysis of State's Submittals

We have evaluated Colorado's August 8, 2006 submittal regarding revisions to the State's Regulation 1. EPA had corresponded to the State regarding the State's proposed revisions prior to their State adoption on July 21, 2005. In our letters dated March 19, 2001 and August 8, 2001 to the Colorado Air Quality Control Commission and Colorado Department of Public Health and Environment, we expressed our concern regarding a number of issues we are proposing action on today.

Military Exercises Using Smoke at Fort Carson Facilities

In our March 19, 2001 letter, we expressed concern that the elimination of the three kilometer buffer smoke between where smoke could be released and the military property boundary would not be sufficient to provide assurance that the smoke would not drift over the military boundary and impact public health. The State and United States Army alleviated our concerns when both parties agreed to a number of additional measures to prevent obscurants from crossing the boundary. These included assessing atmospheric dispersion conditions prior to the use of the obscurants, the posting of observers, developing procedures beforehand for the use of obscurants and placing authority to terminate the use of obscurants in the hands of military personnel directly involved in the military exercise where the obscurant is being used.

We do not consider the elimination of the three kilometer buffer zone a relaxation of previous SIP conditions since the buffer zone provision was replaced with new provisions that, at a minimum, compensate for the removal of previous conditions. We are proposing approval of the revision.

Fuel Burning Units

Prior to its revision, Section III.A.1.d stated that if two or more fuel burning units connect to any opening, the maximum allowable emission rate shall be calculated on a pound per million heat input (BTU) basis. The State revised this so that the maximum allowable emission rate shall be calculated on a lb per hour basis. In our July 5, 2005 letter, we expressed that it was unclear why the regulation was changed. We suggested to the State that a testing protocol be developed to determine compliance with the revised emission rate. The State did not develop a testing protocol to determine compliance, and did not explain the basis for the change. It is unclear how the change is consistent with the emissions limits provided for individual fuel burning units, which are expressed in lbs per million BTU, and whether the change constitutes a relaxation of the provision. Given the lack of a testing protocol for compliance, the apparent inconsistency with the limits for individual fuel burning units, and the possible relaxation of the provision, EPA proposes to disapprove the revision to Section III.A.1.d.

Process Design, Averaging Times, and Recordkeeping Requirements

The State revised Section III.C.1.a to clarify the applicability of provisions to manufacturing process equipment. We propose to approve this revision, which confirms the State's existing practice. However, we note that the submittal does not show the same change to Section III.C.1.b, in which the reference to process weight remains. The State should revise III.C.1.b correspondingly.

EPA noted in our August 8, 2001 letter that the averaging time for all SO2 emissions standards should be a three hour rolling average. EPA reasoned that section VI.A applies to different types of sources with varying sulfur in fuel content. A 24 hour sampling period is too long to assess the amount of SO2 being emitted when the sulfur in fuel can vary over shorter periods. The State expanded the applicability of the default averaging period, a three hour rolling average, in section VI.A.1. EPA proposes approval of this revision.

The State also revised the recordkeeping provisions to require records be retained for a longer period than two years if other applicable regulations require it. We are approving the State's clarification of the recordkeeping requirements.

SO2 Emission Rates for Petroleum Refining and New Sources

The State had proposed a SO2 emission limit relaxation in Sections VI.B.4.e and g pertaining, respectively, to petroleum refineries and to shale oil refineries that process 1,000 or more barrels of oil per day. We had expressed concern in our August 8, 2001 letter to the State telling the State that we viewed this as a relaxation to the SIP. Section 110(l) of the Clean Air Act (CAA) provides that we cannot approve a revision to a SIP if the revision would interfere with any applicable requirement concerning attainment and reasonable further progress, or any other applicable requirement of the Act. The State was asked to submit an analysis indicating whether the relaxation would interfere with the SO2 National Ambient Air Quality Standard (NAAQS) or the SO2 increments.

The State responded to EPA's concern by attempting to model compliance with the NAAQS using the proposed SO2 emission limits of 0.7 lbs per barrel of oil processed per day. In the State's July 21, 2005 Statement of Basis that accompanied the August 8, 2006 submittal, the State said that modeling with the revised emission limitations resulted in violations of the NAAQS. The State decided that the previous emission limitation of 0.3 lbs per barrel of oil processed per day should be reinstated to protect the NAAQS, because the modeling did not support the relaxation of the standard. EPA proposes to approve the reinstatement of the previous limits in Sections VI.B.4.e and g.

The State did add requirements in Section VI.B.5 that new sources not regulated elsewhere in Regulation 1 for SO2 emissions would be limited to not more than two tons of SO2 per day or be required to utilize BACT. In a previous submission, the State had deleted Section VI.B.5. EPA disapproved that submission (76 FR 4540). The August 8, 2006 submission restores the language that existed (and continues to exist) in the SIP and therefore makes no change (other than renumbering) to the provisions. EPA therefore proposes to approve this submission.

Renumbering and Deletion of Former Sources

The renumbering of the sections does not modify any substantive provision of the SIP. EPA therefore proposes to approve it. However, EPA does not view the renumbering as resubmitting provisions that have already been approved for inclusion into the SIP, or that previously have been disapproved, but were not modified in any way other than renumbering. In particular, EPA's proposed approval of the renumbering does not constitute approval of existing director's discretion provisions that were not substantively modified in this submission, or of director's discretion provisions that were previously disapproved and that were not substantively modified in this submission (see, for example, 76 FR 4540, Jan. 26, 2011).

In Section VIII.A., Applicability, the reference to the U.S. Department of Energy, Rocky Flats Environmental Technology Site and Gates Rubber Company as sources using oil as a backup fuel was deleted since the sources no longer operate in the Denver, Colorado metropolitan area. EPA is proposing to approve the deleted reference to these sources.

V. Consideration of Section 110(l) of the CAA

Section 110(l) of the CAA states that a SIP revision cannot be approved if the revision would interfere with any applicable requirement concerning attainment and reasonable further progress toward attainment of the NAAQS or any other applicable requirement of the Act. The Colorado SIP revisions that are proposed for approval in this action do not interfere with attainment of the NAAQS or any other applicable requirement of the Act. For the most part, the revisions do not make substantive changes that relax the stringency of the Colorado SIP. As discussed above, the substantive changes to the provisions for the use of military obscurants, taken as a whole, provide at least equivalent stringency to the existing provisions. Therefore, the portions of the revisions proposed for approval satisfy section 110(l) requirements.

VI. Proposed Action

We are not acting on purported revisions made to Section II.C. regarding the State's Open Burning regulation. Upon review of the revisions, the language was unchanged from a previous revision the State had made to its Open Burning regulations under the Smoke and Opacity section of Regulation 1. EPA approved this revision in an earlier action (76 FR 4540, January 26, 2011). EPA therefore considers that no revision was submitted for Section II.C.

What EPA Is Proposing To Approve

We are proposing approving the new numbering scheme for Regulation 1. As discussed above, this proposed approval does not constitute approval of any renumbered provisions that were not substantively modified. We propose to approve the State's incorporation by reference into the SIP of EPA test method 9.

We are also proposing for approval the use of obscurants by the United States Army for military exercises at Fort Carson and PCMS under the prescribed conditions stated in Section II.D. The use of design rates for determining allowable emissions rates for manufacturing processes as defined in Section III.C.1.a of Regulation 1 is proposed for approval.

The revision to the default averaging time for existing sources of SO2 (Section VI.A.1) is proposed for approval. The modification to recordkeeping and reporting requirements in Section VI.A.5 is also proposed for approval. The reinstatement of Section VI.B.5, requirements for new sources of SO2 emissions not regulated elsewhere in Regulation 1, is proposed for approval.

EPA proposes to approve the deletion of the Rocky Flats Environmental Technology Site and the Gates Rubber Company in Section VIII.A. Minor grammatical revisions made throughout the revisions are also being proposed for approval. The State's use of the term “attainment/maintenance” area in Sections I.A., III.B.2.a, IV.D.2, and IX is proposed for approval.

What EPA Is Disapproving

EPA is proposing to disapprove the revision to Section III.A.1.d regarding the maximum allowable emission rate for multiple fuel units.

VII. Statutory and Executive Order Reviews

Under the CAA, the Administrator is required to approve a SIP submission that complies with the provisions of the Act and applicable Federal regulations. 42 U.S.C. 7410(k); 40 CFR 52.02(a). Thus, in reviewing SIP submissions, EPA's role is to approve State choices, provided that they meet the criteria of the CAA. Accordingly, this action merely approves State law as meeting Federal requirements and does not impose additional requirements beyond those imposed by State law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

List of Subjects in 40 CFR Part 52

Environmental protection, Air pollution control, Carbon monoxide, Intergovernmental relations, Lead, Nitrogen dioxide, Ozone, Particulate matter, Reporting and recordkeeping requirements, Sulfur oxides, Volatile organic compounds.

Dated: July 28, 2011.
James B. Martin,
Regional Administrator, Region 8.

[FR Doc. 2011-20282 Filed 8-9-11; 8:45 am]

BILLING CODE 6560-50-P